SMALL BUSINESS ADMINISTRATION

[Disaster Declaration #10160 and #10161]

California Disaster #CA-00012

AGENCY: Small Business Administration.

ACTION: Notice.

SUMMARY: This is a notice of an Administrative declaration of a disaster for the State of California dated 08/10/2005.

Incident: Severe Storms, Flooding, Landslides, and Mud and Debris Flows.

Incident Period: 02/12/2005 through 02/24/2005.

Effective Date: 08/10/2005.

Physical Loan Application Deadline Date: 10/11/2005.

EIDL Loan Application Deadline Date: 05/10/2006.

ADDRESSES: Submit completed loan applications to: Small Business Administration, Disaster Area Office 3, 14925 Kingsport Road, Fort Worth, TX 76155.

FOR FURTHER INFORMATION CONTACT: A. Escobar, Office of Disaster Assistance, U.S. Small Business Administration, 409 3rd Street, Suite 6050, Washington, DC 20416.

SUPPLEMENTARY INFORMATION: Notice is hereby given that as a result of the Administrator's disaster declaration applications for disaster loans may be filed at the address listed above or other locally announced locations.

The following areas have been determined to be adversely affected by the disaster:

Primary Counties: Los Angeles; Orange.

Contiguous Counties: California: Kern; Riverside; San Bernardino; San Diego; Ventura.

The Interest Rates are:

| Percent
Homeowners With Credit Available Elsewhere | 5.875.
Homeowners Without Credit Available Elsewhere | 2.937.
Businesses With Credit Available Elsewhere | 6.000.
Businesses and Small Agricultural Cooperatives Without Credit Available Elsewhere | 4.000.
Other (Including Non-Profit Organizations) With Credit Available Elsewhere | 4.750.
Businesses and Non-Profit Organizations Without Credit Available Elsewhere | 4.000.

The number assigned to this disaster for physical damage is 10160 B and for economic injury is 10161 0. The State which received an EIDL Declaration # is California.

(Catalog of Federal Domestic Assistance Numbers 59002 and 59008).
Dated: August 10, 2005.
Hector V. Barreto,
Administrator.

[FR Doc. 05-16419 Filed 8-18-05; 8:45 am]

BILLING CODE 8025-01-P